DEPARTMENT OF HOMELAND SECURITY

U.S. Citizenship and Immigration Services

[OMB Control Number 1615-NEW]

Agency Information Collection Activities; New Collection: E-Verify NextGen, I-9NG

AGENCY: U.S. Citizenship and Immigration Services, Department of Homeland Security.

ACTION: 60-Day notice.

SUMMARY: The Department of Homeland Security (DHS), U.S. Citizenship and Immigration Services (USCIS) invites the general public and other Federal agencies to comment upon this proposed new collection of information. In accordance with the Paperwork Reduction Act (PRA) of 1995, the information collection notice is published in the Federal Register to obtain comments regarding the nature of the information collection, the categories of respondents, the estimated burden (i.e., the time, effort, and resources used by the respondents to respond), the estimated cost to the respondent, and the actual information collection instruments.

DATES: Comments are encouraged and will be accepted for 60 days until August 28, 2023.

ADDRESSES: All submissions received must include the OMB Control Number 1615-NEW in the body of the letter, the agency name and Docket ID USCIS-2023-0011. Submit comments via the Federal eRulemaking Portal website at https://www.regulations.gov under e-Docket ID number USCIS-2023-0011.

FOR FURTHER INFORMATION CONTACT: USCIS, Office of Policy and Strategy, Regulatory Coordination Division, Samantha Deshommes, Chief, telephone number (240) 721-3000 (This is not a toll-free number. Comments are not accepted via telephone message). Please note contact information provided here is solely for questions regarding this notice. It is not for individual case status inquiries. Applicants seeking information about the status of their individual cases can check Case Status Online, available at the USCIS website at https://www.uscis.gov, or call the USCIS Contact Center at 800-375-5283 (TTY 800-767-1833).

SUPPLEMENTARY INFORMATION:

Background

With this demonstration project, called “E-Verify NextGen,” USCIS intends to further integrate the Form I-9, Employment Eligibility Verification, process with the E-Verify electronic employment eligibility confirmation process to create a more secure and less burdensome employment eligibility verification process overall for employees and employers. This integrated internet-based project will permit employees to create their own secure account, resolve E-Verify tentative non-confirmations (also referred to as “mismatches”) in advance and directly with the government, instead of through their employer, and then receive an electronic verification response that they can use and update with subsequent employers.

The current employment eligibility verification process relies on employer participation to ensure both employees and employers correctly enter information on the Form I-9 and then subsequently transfer that information into the E-Verify system. This employer intervention with employee-related information is less secure and sometimes results in data entry errors with the cases created in E-Verify. These cases can result in E-Verify mismatches that may require additional actions by the employer, the employee, the Social Security Administration, and DHS, to complete an employment eligibility verification. The burden of initiating this resolution process currently falls mostly on employers. If an employer does not correctly follow the E-Verify steps needed to communicate the mismatch resolution processes to employees, including failing to notify the employee of the mismatch, the employees and the government have difficulty resolving the mismatch, and the employees and employers may not receive timely and appropriate confirmation of their employment eligibility. Employees who are not notified of their mismatch may not have an opportunity to resolve it and can face termination if their E-Verify case results in a final nonconfirmation.

The goal of E-Verify NextGen is to streamline the employment eligibility verification and confirmation process for employers and employees by:

• Resolving E-Verify mismatches and electronically issuing an employment authorized result to individuals who E-Verify finds to be work authorized, which will expedite future E-Verify checks and make an employee's employment eligibility verification easier for future employment.

• Giving employees more direct control over their data privacy and a more direct stake in their employment eligibility verification process by creating a secure, individual account for employment eligibility verification. This better protects personally identifiable information and helps improve data accuracy.

• Allowing employees to receive notification of and resolve E-Verify mismatches directly with the government without requiring the employer to be an intermediary to print and distribute forms, which is a more secure and private process that can speed up case resolution.

• Removing the employer's primary role in the mismatch resolution process. While employers would be informed about their employee's mismatch, this process removes employers as the intermediary to communicate a mismatch to the employee, as affected employees are instead notified directly and provided the instructions required to resolve the mismatch.

The demonstration project will be built upon the existing USCIS and E-Verify web services capabilities and will be enhanced by two electronic applications for the employee and employer, respectively, each of which will have its own terms of service. USCIS will conduct detailed internal assessments of the demonstration project and intends to provide necessary reports and briefings on the project status as required by law. USCIS now welcomes comments to the proposed collection of information associated with these new functionalities.

Comments

You may access the information collection instrument with instructions or additional information by visiting the Federal eRulemaking Portal site at: https://www.regulations.gov and entering USCIS-2023-0011 in the search box. All submissions will be posted, without change, to the Federal eRulemaking Portal at https://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of https://www.regulations.gov.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New Collection.

(2) Title of the Form/Collection: E-Verify NextGen.

(3) Agency form number, if any, and the applicable component of the DHS sponsoring the collection: I-9NG; USCIS.

(4) Affected public who will be asked or required to respond, as well as a brief abstract: Primary: Individuals or households; Business or other for-profit; Not-for-profit institutions. E-Verify NextGen, I-9NG, was developed as a demonstration project to further integrate the Form I-9, Employment Eligibility Verification, process with the E-Verify electronic employment eligibility confirmation process to create a more secure and less burdensome employment eligibility verification process overall for employees and employers.

(5) An estimate of the total number of respondents and the amount of time estimated for an average respondent to respond: The estimated total number of respondents for the information collection I-9NG Employers, Recruiters and Referrers for a fee, and State Employment Agencies is 189,015 and the estimated hour burden per response is 0.05 hours; the estimated total number of respondents for the information collection I-9NG Employees (New User Account Creation) is 11,668,584 and the estimated burden per response is 0.17 hours; the estimated total number of respondents for the information collection I-9NG Employees (Employment Eligibility Verification, Form I-9NG) is 13,231,050 and the estimated burden per response is 0.08 hours; the estimated total number of respondents for the information collection by Record Keeping and Audits is 13,248,648 and the estimated burden per response is 0.17 hours.

(6) An estimate of the total public burden (in hours) associated with the collection: The total estimated annual hour burden associated with this collection is 5,955,966 hours.

(7) An estimate of the total public burden (in cost) associated with the collection: The estimated total annual cost burden associated with this collection of information is $0. This is a voluntary program. Any requirements to support the verification process are already available through other approved collections of information that may be employment related or occur as a part of the hiring process.

Dated: June 23, 2023.
Samantha L. Deshommes,
Chief, Regulatory Coordination Division, Office of Policy and Strategy, U.S. Citizenship and Immigration Services, Department of Homeland Security.

[FR Doc. 2023-13786 Filed 6-28-23; 8:45 am]

BILLING CODE 9111-97-P